DEPARTMENT OF COMMERCE

National Telecommunications and Information Administration

Agency Information Collection Activities; Submission to the Office of Management and Budget (OMB) for Review and Approval; Comment Request; Tribal Broadband Connectivity Program (TBCP) and Native Entities Grant Program (NEGP)

AGENCY: National Telecommunications and Information Administration (NTIA), Commerce.

ACTION: Notice of information collection, request for comment.

SUMMARY: The Department of Commerce, in accordance with the Paperwork Reduction Act of 1995 (PRA), invites the general public and other Federal agencies to comment on proposed, and continuing information collections, which help us assess the impact of our information collection requirements and minimize the public's reporting burden. The purpose of this notice is to allow for 60 days of public comment preceding submission of the collection to OMB.

DATES: To ensure consideration, comments regarding this proposed information collection must be received on or before February 9, 2026.

ADDRESSES: Interested persons are invited to submit written comments by mail to Jennifer Duane, Director, Grants Management, Administration, and Compliance, Office of Internet Connectivity and Growth, National Telecommunications and Information Administration, U.S. Department of Commerce, 1401 Constitution Avenue NW, Room 4874, Washington, DC 20230, or by email to broadbandusa@ntia.gov. Please reference “TBCP and NEGP Application Forms Comment” in the subject line of your comments. Do not submit Confidential Business Information or otherwise sensitive or protected information.

FOR FURTHER INFORMATION CONTACT: Requests for additional information or specific questions related to collection activities should be directed to Jennifer Duane, Director, Grants Management, Administration, and Compliance, via telephone at (202) 482-1763, or via email at jduane@ntia.gov.

SUPPLEMENTARY INFORMATION:

I. Abstract

The Infrastructure Investment and Jobs Act, 2021 (Infrastructure Act), which was adopted on November 15, 2021, provided $65 billion of funding for programs to close the digital divide and ensure that all Americans have access to affordable, reliable, high-speed internet. NTIA administers multiple broadband connectivity grant programs funded by the Infrastructure Act. Under the Native Entities Grant Program (NEGP), which brings together the set-asides authorized under 47 U.S.C. 1723(i) (Digital Equity Capacity Grant Program) and 1724(j) (Digital Equity Competitive Grant Program), NTIA is required to reserve not less than five percent (5%) of total program funds for Indian Tribes, Alaska Native entities, and Native Hawaiian organizations (collectively referred to as “Native Entities”). These set-asides ensure that Native communities have direct access to funding to advance broadband adoption, digital skills development, and access to devices and public connectivity resources.

Likewise, the Tribal Broadband Connectivity Program (TBCP), authorized by the Consolidated Appropriations Act, 2021, adopted on December 27, 2020, (CAA) as amended by the Infrastructure Act, Division F, Title II, Section 60201, Public Law 117-58, 135 Stat. 429 (Nov. 15, 2021), provides new federal funding for grants to eligible entities to expand access to and adoption of: (i) Broadband service on Tribal Land; or (ii) for programs that promote the use of broadband to access remote learning, telework, or telehealth resources.

NTIA intends to release Notice of Funding Opportunities (NOFOs) in spring 2026 for both NEGP and TBCP to support Tribal broadband access. NTIA is working on reforms across these programs to reduce red tape for Tribal governments, promote flexibility, and align NTIA's grant opportunities to better serve Tribal connectivity. These reforms will be reflected in the forthcoming NOFOs.

NTIA will use the information collected from each applicant to effectively review the proposed applications and budgets from Indian Tribes, Alaska Native Entities, and Native Hawaiian organizations for NEGP, and from Tribal Governments, Tribal Colleges or Universities, Tribal organizations, or Alaska Native Corporations for TBCP.

II. Method of Collection

NTIA will collect data through both electronic and mail submission.

III. Data

OMB Control Number: 0660-XXXX.

Form Number(s): TBD.

Type of Review: Regular submission for a new information collection.

Affected Public (NEGP): Indian Tribes, Alaska Native Entities, and Native Hawaiian organizations.

Affected Public (TBCP): Tribal Governments, Tribal Colleges or Universities, Tribal organizations, or Alaska Native Corporations.

Estimated Number of Respondents: 700.

Estimated Time per Response: 10 hours for applicants.

Estimated Total Annual Burden Hours: 7,000 hours.

Estimated Total Annual Cost to Public: $321,426.00.

Respondent's Obligation: Mandatory.

Legal Authority: Section 60305 of the Infrastructure Investment and Jobs Act of 2021 (IIJA), Public Law 117-58, 135 Stat. 429 (November 15, 2021); Consolidated Appropriations Act, 2021, Division N, Title IX, Section 905(c), Public Law 116-260, 134 Stat. 1182 (Dec. 27, 2020) (Act), as amended by the IIJA.

IV. Request for Comments

We are soliciting public comments to permit the Department/Bureau to:

(a) Evaluate whether the proposed information collection is necessary for the proper functions of the Department, including whether the information will have practical utility.

(b) Evaluate the accuracy of our estimate of the time and cost burden for this proposed collection, including the validity of the methodology and assumptions used.

(c) Evaluate ways to enhance the quality, utility, and clarity of the information to be collected.

(d) Minimize the reporting burden on those who are to respond, including the use of automated collection techniques or other forms of information technology.

Comments that you submit in response to this notice are a matter of public record. We will include or summarize each comment in our request to OMB to approve this Information Collection Request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-22401 Filed 12-9-25; 8:45 am]

BILLING CODE 3510-60-P